DEPARTMENT OF HOMELAND SECURITY

Bureau of Customs and Border Protection

DEPARTMENT OF THE TREASURY

19 CFR Part 12

[CBP Dec. 07-05 and USCBP-2006-0020]

RIN 1505-AB68

Entry of Certain Cement Products From Mexico Requiring a Commerce Department Import License

Correction

In rule document 07-997 beginning on page 10004 in the issue of Tuesday, March 6, 2007, make the following correction:

§ 12.155 [Corrected]

On page 10005, in the third column, in § 12.155(b), in the seventh line, “361.205” should read “361.105”.

[FR Doc. C7-997 Filed 3-13-07; 8:45 am]

BILLING CODE 1505-01-D